DEPARTMENT OF DEFENSE

Office of the Secretary

Higher Initial Maximum Uniform Allowance Rate

AGENCY: Office of the Under Secretary of Defense (Personnel and Readiness), Department of Defense.

ACTION: Notice; request for comments.

SUMMARY: The Department of Defense (DoD or “the Department”), is proposing to establish a higher initial maximum uniform allowance to procure and issue uniform items for uniformed security guard personnel. This proposal is pursuant to the authority granted to DoD by section 591.104 of title 5, Code of Federal Regulations (CFR), which states that an agency may establish one or more initial maximum uniform allowance rates greater than the Governmentwide maximum uniform allowance rate established under 5 CFR 591.103.

DATES: Comments must be received on or before May 9, 2016.

ADDRESSES: Address all comments concerning this notice to Cheryl A. Opere, Pay Team, Defense Civilian Personnel Advisory Service, Department of Defense, 4800 Mark Center Drive, Suite 05J25, Alexandria, VA 22350-1100.

FOR FURTHER INFORMATION CONTACT: Cheryl Opere, 571-372-1682.

SUPPLEMENTARY INFORMATION: The Department is proposing to implement a higher initial maximum uniform allowance to procure and issue uniform items for uniformed security guard personnel. This is being established in accordance with 5 CFR 591.104, which states that an agency may establish one or more initial maximum uniform allowance rates greater than the Governmentwide maximum uniform allowance rate established under 5 CFR 591.103.

The current $800.00 limit has become inadequate to maintain the uniform standards and professional image expected of Federal uniformed security guards. The uniform items for uniformed security guard personnel include the following items or similar items such as: Winter gloves; battle dress uniform pants and blouses; cold weather and light weight duty jackets; duty sweaters; dress duty trousers; short sleeve summer and long sleeve winter duty dress shirts; jacket and pants rain gear; felt hats; duty caps; high gloss duty shoes; leather duty boots; duty ties; heavy duty battle dress uniform duty coats; cloth uniform insignia patches and cloth uniform badges. The average total uniform cost for the listed items is $1,800.00. Based on these current costs, the Department is proposing to increase the initial maximum uniform allowance for uniformed police personnel to $1,800.00. The number of uniformed security guard personnel affected by this change in the Department would be approximately 3,400 employees. The proposed effective date of this higher initial maximum uniform allowance rate is April 1, 2016.

Dated: April 4, 2016.
Aaron Siegel,
Alternate OSD Federal Register Liaison Officer, Department of Defense.

[FR Doc. 2016-07963 Filed 4-6-16; 8:45 am]

BILLING CODE 5001-06-P